Proclamation 10341 of February 18, 2022

Day of Remembrance of Japanese American Incarceration During World War II

By the President of the United States of America

A Proclamation

Eighty years ago, on February 19, 1942, President Franklin D. Roosevelt signed Executive Order 9066, stripping people of Japanese descent of their civil rights. That order and the subsequent actions carried out by the Federal Government represent one of the most shameful chapters in our Nation's history. On this Day of Remembrance of Japanese American Incarceration During World War II, we acknowledge the unjust incarceration of some 120,000 Japanese Americans, approximately two-thirds of whom were born in the United States.

Despite never being charged with a crime, and without due process, Japanese Americans were forcibly removed from their homes and communities and incarcerated, simply because of their heritage. For years, many Japanese Americans lived in harsh, overcrowded conditions, surrounded by barbed wire fences and armed guards. Not only did they lose their homes, businesses, property, and savings—they also lost their liberty, security, and the fundamental freedoms that belong to all Americans in equal measure.

I have always believed that great nations do not ignore their most painful moments—they confront them with honesty and, in doing so, learn from them and grow stronger as a result. The incarceration of Japanese Americans 80 years ago is a reminder to us today of the tragic consequences we invite when we allow racism, fear, and xenophobia to fester.

Today, we reaffirm the Federal Government's formal apology to Japanese Americans whose lives were irreparably harmed during this dark period of our history, and we solemnly reflect on our collective moral responsibility to ensure that our Nation never again engages in such un-American acts. We acknowledge the intergenerational trauma and loss that the incarceration of Japanese Americans has caused. We also uplift the courage and resilience of brave Japanese Americans who, despite being unjustly incarcerated, formed powerful communities and marshalled incredible dignity and strength.

Many of those whose families were incarcerated volunteered or were drafted to serve in combat—courageously serving in the 100th Infantry Battalion, Military Intelligence Service, Women's Army Auxiliary Corps, Army Nurse Corps, and the 442nd Regimental Combat Team with unwavering patriotism. The all-Japanese American 100th Infantry Battalion and the 442nd Regimental Combat Team became two of the most decorated and distinguished military units in our Nation's history. Countless Japanese Americans carry forward this legacy of extraordinary service today, and their work to preserve the history of this period strengthens our Nation and our democracy.

We reflect on the bravery of civil rights leaders like Fred Korematsu, Minoru Yasui, Gordon Hirabayashi, and Mitsuye Endo, and that of every Japanese American who organized and sought redress. Their efforts helped bring about the first Day of Remembrance, led President Jimmy Carter to sign the law creating the Commission on Wartime Relocation and Internment of Civilians, and spurred President Ronald Reagan to sign the Civil Liberties Act of 1988, which provided monetary reparations to living survivors and an official apology to the Japanese American community. At the same time, we also acknowledge the painful reality that Japanese Latin Americans, who were taken from their Central and South American homes and incarcerated by the United States Government during World War II, were excluded from the Civil Liberties Act of 1988.

Today, the National Park Service helps preserve several Japanese American incarceration camps. These tangible reminders of our history provide important spaces for reflection and learning about the injustices born of prejudice. Preserving incarceration sites as national parks and historic landmarks is proof of our Nation's commitment to facing the wrongs of our past, to healing the pain still felt by survivors and their descendants, and to ensuring that we always remember why it matters that we never stop fighting for equality and justice for all. My Administration is committed to maintaining these national parks and landmarks for future generations and to combating xenophobia, hate, and intolerance—including through the reestablished White House Initiative on Asian Americans, Native Hawaiians, and Pacific Islanders. In the words of Dr. Frank Kitamoto, who was incarcerated as a child, “This is not just a Japanese American story but an American story with implications for the world.”

The words we use to describe the historical and present treatment of communities of color and other underserved communities have profound meaning. Today, we recognize that euphemistic terms that we have collectively used in the past—such as “assembly centers,” “relocation,” or “internment”—do not adequately describe the injustice experienced by some 120,000 people; we recognize the forced removal and mass incarceration of Japanese Americans and others during World War II; and we reaffirm our commitment to Nidoto Nai Yoni, which translates to “Let It Not Happen Again.”

NOW, THEREFORE, I, JOSEPH R. BIDEN JR., President of the United States of America, by virtue of the authority vested in me by the Constitution and the laws of the United States, do hereby proclaim February 19, 2022, as a Day of Remembrance of Japanese American Incarceration During World War II. I call upon the people of the United States to commemorate this injustice against civil liberties and civil rights during World War II; to honor the sacrifice of those who defended the democratic ideals of this Nation; and to commit together to eradicate systemic racism to heal generational trauma in our communities.

IN WITNESS WHEREOF, I have hereunto set my hand this eighteenth day of February, in the year of our Lord two thousand twenty-two, and of the Independence of the United States of America the two hundred and forty-sixth.

[FR Doc. 2022-04103

Filed 2-23-22; 11:15 am]

Billing code 3395-F2-P